DEPARTMENT OF COMMERCE

National Oceanic and Atmospheric Administration

[I.D. 030706E]

Fisheries off the West Coast States and in the Western Pacific; Pacific Coast Groundfish Fishery; Intent to Prepare an Environmental Impact Statement for Fishing Conducted Under the Pacific Coast Groundfish Fishery Management Plan

AGENCY: National Marine Fisheries Service (NMFS), National Oceanic and Atmospheric Administration (NOAA), Commerce.

ACTION: Notice of intent to prepare an environmental impact statement (EIS); announcement of public scoping period; request for written comments.

SUMMARY: NMFS, in cooperation with the Pacific Fishery Management Council (Council), announces its intention to prepare an EIS in accordance with the National Environmental Policy Act (NEPA). NMFS and the Council intend to expand the scope of an EIS they had initially announced as needed to assess the impacts of the 2007-2008 Pacific Coast groundfish fishery specifications and management measures on the human, biological, and physical environment. The scope of this EIS will be expanded to include an analysis of the impacts of revising the rebuilding plans for the seven overfished Pacific Coast groundfish species. Revisions to rebuilding plans will be incorporated in the Pacific Coast Groundfish Fishery Management Plan (FMP) via Amendment 16-4.

DATES: Public scoping opportunities for the 2007-2008 Pacific Coast groundfish fishery specifications and management measures and Amendment 16-4 EIS will occur during meetings of the Council and its advisory bodies, at the April 2-7, 2006, meeting in Sacramento, CA and at the June 11-16, 2006, meeting in Foster City, CA. Written comments will be accepted at the Council office through April 13, 2006.

ADDRESSES: You may submit comments, on issues and alternatives, identified by any of the following methods:

• E-mail: (pfmc.comments@noaa.gov. Include [030706E]

and enter “Scoping Comments” in the subject line of the message.)

• Fax: 503-820-2299.

• Mail: Dr. Donald McIsaac, Pacific Fishery Management Council, 7700 NE Ambassador Pl., Suite 200, Portland, OR 97220.

FOR FURTHER INFORMATION CONTACT: Mr. John DeVore, Groundfish Fishery Management Coordinator; phone: 503-820-2280, fax: 503-820-2299, and e-mail: john.devore@noaa.gov or Yvonne deReynier, NMFS, Northwest Region, phone: 206-526-6129, fax: 206-526-6736 and e-mail: yvonne.dereynier@noaa.gov.

SUPPLEMENTARY INFORMATION:

Electronic Access

This Federal Register document is available on the Government Printing Office's website at: www.gpoaccess.gov/fr/index/html.

Background and Need for Agency Action

On October 25, 2005, NMFS and the Council published a Notice of Intent to prepare an EIS or an environmental assessment (EA) for the 2007-2008 groundfish harvest specifications and management measures (70 FR 61595). At that time, NMFS and the Council were unsure whether an EA or an EIS would be the appropriate analytical document for that action. During the Council's October 31 - November 4, 2005, meeting in San Diego, Ca, NMFS reported to the Council on recent Court instructions in Natural Resources Defense Council (NRDC) v. NMFS, 421 F.3d 872 (9th Cir. 2005), a lawsuit originally filed in opposition to darkblotched rockfish rebuilding measures in the 2002 groundfish harvest specifications and management measures.

The Council discussed a strategy for responding to the Court's orders to re-evaluate the darkblotched rockfish rebuilding plan so that the rebuilding period for that species would be as short as possible, taking into account the status and biology of the species and the needs of fishing communities. Like other overfished species, darkblotched rockfish co-occurs with both healthy and overfished species. This tendency for various groundfish species to co-occur with each other drives many groundfish management measures, because harvest of healthy stocks must be constrained to ensure that stocks are not subject to overfishing and that overfished stocks are rebuilt within the appropriate time frame. In order to meet the Court's order on darkblotched rockfish management within the biological constraints of a mixed, multi-species fishery, the Council recommended taking a global look at all of its overfished species rebuilding plans. NMFS and the Council reported back to the Court that they planned to implement a reduced darkblotched rockfish optimum yield (OY) for 2006, and to re-evaluate all seven of the overfished species rebuilding plans for 2007 and beyond. The Court reviewed this plan, and ordered NMFS to both implement a reduced darkblotched rockfish OY for 2006, and to re-evaluate and revise all overfished species rebuilding plans by January 1, 2007. (For more information on the revised 2006 darkblotched rockfish OY, see the proposed and final rules for that action; 70 FR 75115, December 19, 2005 and 71 FR 8489, February 17, 2006.)

This Notice of Intent to prepare an EIS announces NMFS and the Council's intent to expand the scope of the NEPA document analyzing the 2007-2008 groundfish harvest specifications and management measures to include revising rebuilding plans for seven overfished species. NMFS and the Council believe that this expansion of scope warrants NEPA analysis under an EIS, rather than an EA. When the Draft Environmental Impact Statement is submitted for public review, it will also include an analysis of the impacts of the action under the requirements of the Magnuson-Stevens Fishery Conservation and Management Act, the Regulatory Flexibility Act (RFA), Executive Order 12866 (E.O. 12866), and other applicable laws.

The Council will consider revisions to the overfished species rebuilding plans when it considers the 2007-2008 groundfish harvest specifications and management measures, at the April and June 2006 meetings. When the Council makes it final recommendations on a preferred alternative in June 2006, it plans to submit new overfished species rebuilding plans for NMFS review. These new overfished species rebuilding plans will be incorporated into the FMP as Amendment 16-4.

Alternatives

In the October 25, 2005, Notice of Intent, NMFS and the Council described the general structure of the range of alternatives that the public could expect to see for the 2007-2008 groundfish harvest specifications and management measures. These early draft alternatives looked at different rebuilding rates for each overfished species individually, and the effects of that species' harvest on the harvest rates of co-occurring healthy groundfish stocks. Since that notice was published, the Council and its advisory bodies have been refining the alternatives to better define them for public review.

The Council's Allocation Committee and Groundfish Management Team held a joint public meeting in Portland, OR, February 6-9, 2006. During that meeting, the advisory bodies discussed the need to revise the structure of the alternatives in order to ensure that the analysis of alternatives would adequately address issues raised by the Court. The advisory bodies discussed recommending that the Council first look at each overfished species at different rebuilding rates and associated harvest levels - a horizontal look across each species' biological constraints to rebuilding. Then, alternatives for analysis would be vertically integrated to account for the relationships between overfished species. Where, for example, rebuilding measures for darkblotched rockfish constrain the harvest of co-occurring Pacific ocean perch (POP), the POP OY would not be set higher than a level that would accommodate a given darkblotched rockfish yield level.

At the Council's April 2-7, 2006, meeting in Sacramento, CA, the Council will adopt a preferred range of alternative harvest levels. In this range, the Council take into account the inter-relationships between continental slope overfished species (darkblotched rockfish and POP), between different continental shelf species (yelloweye, canary, widow, cowcod, and bocaccio rockfish), between northern species (darkblotched, POP, widow, yelloweye, and canary rockfish), and between southern species (canary, bocaccio, and cowcod rockfish, and in some areas, widow and darkblotched rockfish.

At its April meeting, the Council will also make preliminary recommendations on alternative fishery management measures for 2007-2008. As in past years, alternative management measures will be structured to account for the interactions between healthy and overfished stocks, and between the different fisheries and particular overfished stocks. Not all overfished stocks are incidentally caught in all fishery sectors. Therefore, management measures will differ by sector in order to allow access to healthy stock harvest while ensuring that overfished stocks are rebuilt as quickly as possible.

Preliminary Identification of Environmental Issues

A principal objective of the scoping and public input process is to identify potentially significant impacts to the human environment that should be analyzed in depth in the EIS. This process is also intended to eliminate from detailed study the issues that are not significant, or which have been covered in prior environmental reviews. Narrowing the scope of analysis is intended to allow greater focus on those impacts that are potentially most significant. NMFS and the Council will evaluate the impacts of the proposed action on these components of the biological and physical environment: (1) Essential fish habitat and ecosystems; (2) protected species listed under the Endangered Species Act and Marine Mammal Protection Act and their habitat; and (3) the fishery management unit, including target and non-target fish stocks. Socioeconomic impacts, which may be considered under NEPA, or under the RFA and E.O. 12866, are also considered in terms of the effect changes will have on the following groups: (1) those who participate in harvesting the fishery resources and other living marine resources (for commercial, subsistence, or recreational purposes); (2) those who process and market fish and fish products; (3) those who are involved in allied support industries; (4) those who rely on living marine resources in the management area; (5) those who consume fish products; (6) those who benefit from non-consumptive use (e.g., wildlife viewing); (7) those who do not use the resource, but derive benefit from it by virtue of its existence, the option to use it, or the bequest of the resource to future generations; (8) those involved in managing and monitoring fisheries; and (9) communities.

Public Scoping Process

Public scoping will primarily occur during the Council's decision-making process. All decisions during the Council process benefit from written and verbal comments delivered prior to or during the Council meetings. NMFS and the Council consider these public comments as integral to scoping for developing this EIS. The Council developed its preliminary range of 2007-2008 harvest specifications and management measures at its October 31-November 4, 2005, meeting in San Diego, CA. This was the same meeting at which the Council decided to expand the scope of this EIS. The Council will select the preferred range of management measures at the April 2-7, 2006, meeting in Sacramento, CA, at the Double Tree Hotel, 2001 Point West Way, 9815-4702; telephone: 800-227-6963 or 1-800-222-8733. The Council expects to select the preferred alternative at the June 11-16, 2006, meeting in Foster City, CA at the Crowne Plaza Mid Peninsula Hotel, 1221 Chess Drive, 94404; telephone 1-800- 227-6963 or 650-570-5700. Public comment may be made under the agenda items, when the Council will consider these proposed actions. The agendas for these meetings will be available from the Council website, or by request from the Council office in advance of the meetings (see ADDRESSES). Written comments on the scope of issues and alternatives may also be submitted as described under ADDRESSES.

NMFS invites comments and suggestions on the scope of the analysis to be included in the DEIS. The scope includes the range of alternatives to be considered, and potentially significant impacts to the human environment that should be evaluated in the DEIS. NMFS and the Council plan to make the DEIS available for public comment following the Council's June 2006 meeting. The comment period on the DEIS will be 45 days from the date the Environmental Protection Agency's Notice of Availability appears in the Federal Register. To be most helpful, comments on the DEIS should be as specific as possible and should address the adequacy of the statement or merits of the alternatives discussed. It is also helpful if comments refer to specific pages or chapters of the DEIS. Comments may also address the adequacy of the DEIS or the merits of the alternatives formulated and discussed in the DEIS. (Reviewers may wish to refer to the Council on Environmental Quality Regulations for implementing the procedural provisions of NEPA CFR 1503.3 in addressing these points). Comments received, including the names and addresses of those who comment, will be considered part of the public record on this proposal and will be available for public inspection.

Special Accommodations

These meetings are accessible to people with physical disabilities. Requests for sign language interpretation or other auxiliary aids should be directed to Carolyn Porter 503-820-2280 (voice) or 503-820-2299 (fax), at least 5 days prior to the scheduled meeting date.

Dated: March 9, 2006.
Alan D. Risenhoover,
Acting Director, Office of Sustainable Fisheries, National Marine Fisheries Service.

[FR Doc. E6-3634 Filed 3-13-06; 8:45 am]

BILLING CODE 3510-22-S